CONSUMER PRODUCT SAFETY COMMISSION

Sunshine Act Meeting

AGENCY: U.S. Consumer Product Safety Commission.

TIME AND DATE: Commission Meeting, Thursday, May 31, 2001, 10:00 a.m.

LOCATION: Room 420, East West Towers, 4330 East West Highway, Bethesda, Maryland.

STATUS: Open to the Public.

Matter to be Considered:

Mid-Year Review: The staff will brief the Commission on issues related to fiscal year 2001 mid-year review.

For a recorded message containing the latest agenda information, call (301) 504-0709.

CONTACT PERSON FOR ADDITIONAL INFORMATION: Sadye E. Dunn, Office of the Secretary, 4330 East West Highway, Bethesda, MD 20207 (301) 504-0800.

Dated: May 21, 2001.
Sadye E. Dunn,
Secretary.

[FR Doc. 01-13176 Filed 5-21-01; 2:48 pm]

BILLING CODE 6355-01-M